DEPARTMENT OF HOMELAND SECURITY

Federal Emergency Management Agency

[FEMA-1455-DR]

West Virginia; Amendment No. 5 to Notice of a Major Disaster Declaration

AGENCY: Federal Emergency Management Agency, Emergency Preparedness and Response Directorate, Department of Homeland Security.

ACTION: Notice.

SUMMARY: This notice amends the notice of a major disaster declaration for the State of West Virginia (FEMA-1455-DR), dated March 14, 2003, and related determinations.

EFFECTIVE DATE: April 10, 2003.

FOR FURTHER INFORMATION CONTACT: Magda Ruiz, Recovery Division, Federal Emergency Management Agency, Washington, DC 20472, (202) 646-2705.

SUPPLEMENTARY INFORMATION: The notice of a major disaster declaration for the State of West Virginia is hereby amended to include the following areas among those areas determined to have been adversely affected by the catastrophe declared a major disaster by the President in his declaration of March 14, 2003:

Brooke, Hancock, Hardy, Marion, Marshall, Monongalia, Ohio, Pendleton, Taylor, and Tucker Counties for emergency protective measures (Category B) under the Public Assistance program for a period of 48 hours.

Harrison County for emergency protective measures (Category B) under the Public Assistance program for a period of 48 hours (already designated for Individual Assistance).

Wetzel County for emergency protective measures (Category B) under the Public Assistance program for a period of 48 hours (already designated for Public Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560, Individual and Household Program—Other Needs; 83.544, Public Assistance Grants; 83.548, Hazard Mitigation Grant Program.)

Michael D. Brown,
Acting Under Secretary, Emergency Preparedness and Response.

[FR Doc. 03-9582 Filed 4-17-03; 8:45 am]

BILLING CODE 6718-02-P